DEPARTMENT OF COMMERCE

National Oceanic and Atmospheric Administration

50 CFR Part 648

[Docket No. 120109034-2171-01]

RIN 0648-XC782

Fisheries of the Northeastern United States; Northeast Multispecies Fishery; Trimester Closure for the Common Pool Fishery

AGENCY: National Marine Fisheries Service (NMFS), National Oceanic and Atmospheric Administration (NOAA), Commerce.

ACTION: Temporary rule; closure.

SUMMARY: This action closes the Georges Bank (GB) cod Trimester Total Allowable Catch (TAC) Area for the remainder of Trimester 1, through August 31, 2013. Based on our projection, the common pool fishery has caught 90 percent of its GB cod Trimester 1 TAC triggering the regulatory requirement to close the TAC area for the remainder of the trimester. This action is intended to prevent an overage of the common pool's GB cod quota.

DATES: This action is effective July 30, 2013, through August 31, 2013.

FOR FURTHER INFORMATION CONTACT: Sarah Heil, Fishery Policy Analyst, 978-281-9257.

SUPPLEMENTARY INFORMATION: The regulations at § 648.82(n)(2)(ii) require the Regional Administrator to close the Trimester TAC Area for a stock when 90 percent of the Trimester TAC is projected to be caught. The fishing year (FY) 2013 common pool quota for GB cod is 32 mt (70,547.9 lb), which is divided into Trimester TACs. The Trimester 1 TAC is 8.0 mt (17,600 lb). Based on the most recent data, which include vessel trip reports (VTRs), dealer reported landings, and vessel monitoring system (VMS) information, we projected that 90 percent of the Trimester 1 TAC for GB cod was caught by July 27, 2013. Therefore, effective July 30, 2013, the GB cod Trimester TAC Area is closed for the remainder of Trimester 1, through August 31, 2013, to all common pool vessels fishing with trawl gear, sink gillnet gear, and longline/hook gear. The GB cod Trimester TAC Area includes statistical areas 521, 522, 525, and 561. The GB cod Trimester TAC Area will reopen to common pool vessels fishing with trawl, sink gillnet, and longline/hook gear at the beginning of Trimester 2, on September 1, 2013.

We are required to deduct any overages of the GB cod Trimester 1 and 2 TACs from the Trimester 3 TAC. If the Trimester 1 or 2 TACs are not fully caught, the remaining portions will be carried over to Trimester 3. At the end of FY 2013, we will evaluate total common pool catch, and if the common pool fishery exceeds its annual quota for any stock, we are required to deduct the overage from the respective common pool quota for FY 2014. Uncaught portions of the common pool's annual quota may not be carried over to the next fishing year. Weekly quota monitoring reports for the common pool fishery can be found on our Web site at: http://www.nero.noaa.gov/ro/fso/MultiMonReports.htm. We will continue to monitor common pool catch through VTRs, dealer-reported landings, VMS catch reports, and other available information, and if necessary, we will make additional adjustments to common pool management measures.

Classification

This action is required by 50 CFR part 648, and is exempt from review under Executive Order 12866.

The Assistant Administrator for Fisheries, NOAA (AA), finds good cause pursuant to 5 U.S.C. 553(b)(B) and 5 U.S.C. 553(d)(3) to waive prior notice and the opportunity for public comment and the 30-day delayed effectiveness period because it would be impracticable and contrary to the public interest.

The regulations require the Regional Administrator to close a trimester TAC area to the common pool fishery when 90 percent of the Trimester TAC for a stock has been caught. Updated catch information only recently became available indicating that the common pool fishery would catch 90 percent of its Trimester 1 TAC for GB cod by July 27, 2013. The time necessary to provide for prior notice and comment, and a 30-day delay in effectiveness, would prevent the immediate closure of the GB cod Trimester 1 TAC area, and would increase the likelihood that the common pool fishery exceeds its quota of GB cod to the detriment of this stock.

Any overage of the Trimester 1 TAC is required to be deducted from the Trimester 3 TAC, which could cause the premature closure of Trimester 3, and have negative economic impacts on the common pool fishery. Any overage of the Trimester 1 TAC would also increase the likelihood that the common pool fishery exceeds its total annual quota for GB cod, which would trigger accountability measures in the 2014 fishing year. Overages would not only have negative economic impacts on the common pool fishery, but would also undermine the conservation objectives of the Northeast Multispecies Fishery Management Plan. As a result, immediate implementation of this action is necessary to help ensure that the common pool fishery does not exceed its GB cod quota.

Authority: 16 U.S.C. 1801 et seq.

Dated: July 26, 2013.
James P. Burgess,
Acting Deputy Director, Office of Sustainable Fisheries, National Marine Fisheries Service.

[FR Doc. 2013-18408 Filed 7-29-13; 8:45 am]

BILLING CODE 3510-22-P